DEPARTMENT OF COMMERCE

National Oceanic and Atmospheric Administration

RIN 0648-XH98

Endangered and Threatened Species; Initiation of a 5-Year Review of the Endangered U.S. Distinct Population Segment (DPS) of Smalltooth Sawfish

AGENCY: National Marine Fisheries Service (NMFS), National Oceanic and Atmospheric Administration, Commerce.

ACTION: Notice of initiation of a 5-year review; request for information.

SUMMARY: We, the National Marine Fisheries Service (NMFS), announce a 5-year review of the U.S. DPS of Smalltooth Sawfish (Pristis pectinata) under the Endangered Species Act of 1973 (ESA). A 5-year review is a periodic process conducted to ensure that the listing classification of a species is accurate. A 5-year review is based on the best scientific and commercial data available at the time of the review; therefore, we are requesting submission of any such information on the smalltooth sawfish that has become available since its original listing as an endangered species on April 1, 2003. Based on the results of this 5-year review, we will make the requisite findings under the ESA.

DATES: To allow us adequate time to conduct this review, we must receive your information no later than July 21, 2008. However, we will continue to accept new information about any listed species at any time.

ADDRESSES: Please submit information to Shelley Norton, National Marine Fisheries Service, 263 13th Avenue South, St. Petersburg, FL 33701. Information received in response to this notice and review will be available for public inspection, by appointment, during normal business hours, at the above address. Information may also be submitted by e-mail to: shelley.norton@noaa.gov. Include in the subject line of the e-mail the following identifier: Smalltooth sawfish information for 5-year review. Information may also be submitted via facsimile (fax) to 727-824-5309.

FOR FURTHER INFORMATION CONTACT: Shelley Norton at the above address, or at 727-824-5312.

SUPPLEMENTARY INFORMATION: Under the ESA, a list of endangered and threatened wildlife and plant species must be maintained. The list is published at 50 CFR 17.11 (for animals) and 17.12 (for plants). Section 4(c)(2)(A) of the ESA requires that we conduct a review of listed species at least once every five years. On the basis of such reviews under section 4(c)(2)(B), we determine whether or not any species should be removed from the List (delisted), or reclassified from endangered to threatened or from threatened to endangered. Delisting a species must be supported by the best scientific and commercial data available and only considered if such data substantiates that the species is neither endangered nor threatened for one or more of the following reasons: (1) the species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces our active review of the smalltooth sawfish, currently listed as endangered.

Public Solicitation of New Information

To ensure that the 5-year review is complete and based on the best available scientific and commercial data available, we are soliciting new information from the public, concerned governmental agencies, Tribes, the scientific community, industry, environmental entities, and any other interested parties concerning the status of the smalltooth sawfish.

The 5-year review considers the best scientific and commercial data available and all new information that has become available since the listing determination or most recent status review. Categories of requested information include: (A) species biology including, but not limited to, population trends, distribution, abundance, demographics, and genetics; (B) habitat conditions including, but not limited to, amount, distribution, and suitability; (C) conservation measures that have been implemented that benefit the species; (D) status and trends of threats; and (E) other new information, data, or corrections including, but not limited to, taxonomic or nomenclatural changes, identification of erroneous information contained in the List, and improved analytical methods.

If you wish to provide information for this 5-year review, you may submit your information and materials to Shelley Norton (see ADDRESSES section). Our practice is to make submissions of information, including names and home addresses of respondents, available for public review during regular business hours. Respondents may request that we withhold a respondent's identity as allowable by law. If you wish us to withhold your name or address, you must state this request prominently at the beginning of your submission. We will not, however, consider anonymous submissions. To the extent consistent with applicable law, we will make all submissions from organizations or businesses, and from individuals identifying themselves as representatives or officials of organizations or businesses, available for public inspection in their entirety. Information and materials received will be available for public inspection, by appointment, during normal business hours (see ADDRESSES section).

Authority: 16 U.S.C. 1531 et seq.

Dated: May 16, 2008.
Angela Somma,
Chief, Endangered Species Division, Office of Protected Resources, National Marine Fisheries Service.

[FR Doc. E8-11422 Filed 5-20-08; 8:45 am]

BILLING CODE 3510-22-S